DEPARTMENT OF TRANSPORTATION

Federal Aviation Administration

14 CFR Part 39

[Docket No. FAA-2025-0744; Project Identifier AD-2024-00586-T; Amendment 39-23233; AD 2026-01-05]

RIN 2120-AA64

Airworthiness Directives; The Boeing Company Airplanes

AGENCY: Federal Aviation Administration (FAA), DOT.

ACTION: Final rule.

SUMMARY: The FAA is adopting a new airworthiness directive (AD) for certain The Boeing Company Model 757-200 and -300 series airplanes. This AD was prompted by cracking found during an inspection on an airplane equipped with Aviation Partners Boeing (APB) scimitar blended winglets. This AD requires performing a general visual inspection (GVI) or maintenance records check of certain stringers for an approved freeze plug repair, performing a high frequency eddy current (HFEC) inspection of the same area for any crack common to a certain stringer and a reinforcement strap, and applicable on-condition actions. The FAA is issuing this AD to address the unsafe condition on these products.

DATES: This AD is effective February 20, 2026.

The Director of the Federal Register approved the incorporation by reference of a certain publication listed in this AD as of February 20, 2026.

ADDRESSES:

AD Docket: You may examine the AD docket at regulations.gov under Docket No. FAA-2025-0744; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For APB material identified in this AD, contact Aviation Partners Boeing, 2811 South 102nd St., Suite 200, Seattle, WA 98168; phone 206-830-7699; email leng@aviationpartners.com; website aviationpartnersboeing.com.

• You may view this material at the FAA, Airworthiness Products Section, Operational Safety Branch, 2200 South 216th St., Des Moines, WA. For information on the availability of this material at the FAA, call 206-231-3195. It is also available at regulations.gov under Docket No. FAA-2025-0744.

FOR FURTHER INFORMATION CONTACT: Sarah Illg, Aviation Safety Engineer, FAA, 3960 Paramount Boulevard, Lakewood, CA 90712; phone: 206-231-3517; email: Sarah.A.Illg@faa.gov.

SUPPLEMENTARY INFORMATION:

Background

The FAA issued a notice of proposed rulemaking (NPRM) to amend 14 CFR part 39 by adding an AD that would apply to certain The Boeing Company Model 757-200 and -300 series airplanes. The NPRM was published in the Federal Register on May 5, 2025 (90 FR 18930). The NPRM was prompted by a report indicating a crack on a Model 757-200 airplane equipped with APB scimitar blended winglets found during an HFEC inspection during accomplishment of a 4C maintenance check. In the NPRM, the FAA proposed to require a GVI or maintenance records check of certain stringers for an approved freeze plug repair, an HFEC inspection of the same area for any crack common to a certain stringer and a reinforcement strap, and applicable on-condition actions. The FAA is issuing this AD to address the potential for cracking on the right- or left-wing lower stringer L-8 or L-6 vertical web flange at a fastener common to the reinforcement strap.

Discussion of Final Airworthiness Directive

Comments

The FAA received comments from APB and Boeing who supported the NPRM without change.

The FAA received additional comments from Delta Air Lines (Delta). The following presents the comments received on the NPRM and the FAA's response to each comment.

Request To Address Affected AD

Delta requested that the FAA add an exception to paragraph (h) of the proposed AD stating the proposed AD and APB Service Bulletin AP757-57-012 both serve as a method of compliance to AD 2020-01-18, Amendment 39-19824 (85 FR 5304, January 30, 2020); corrected February 26, 2020 (85 FR 10969) (AD 2020-01-18). Delta also requested that paragraph (b) of the proposed AD be revised to reference AD 2020-01-18. Delta noted that, among other actions, AD 2020-01-18 requires implementation of airworthiness limitations (AWL) task 57-20-12, which is an inspection of left- and right-hand lower wing stringers 6 and 8. Delta stated that if a freeze plug is installed in accordance with APB Service Bulletin AP757-57-012, it will no longer be feasible to accomplish AWL task 57-20-12 because some of the material required to be inspected will be removed and the installed freeze plug and retainer washer will cover up the area required to be inspected. Delta concluded the proposed AD would infringe upon the requirements of AD 2020-01-18.

The FAA agrees that installation of a freeze plug repair would affect accomplishment of AWL task 57-20-12 as required by AD 2020-01-18. However, the FAA disagrees with adding an exception to paragraph (h) of this AD and referencing AD 2020-01-18 in paragraph (b) of this AD. The FAA notes that an alternative method of compliance (AMOC) to AD 2020-01-18 was issued for Model 757-200 and -300 airplanes modified in accordance with STC ST01518SE to allow accomplishment of AWL task 57-20-12A, which supplements AWL task 57-20-12 but does not replace it. Similarly, an operator would need to submit a request for an AMOC to AD 2020-01-18 to address any freeze plug repair that affects accomplishment AWL task 57-20-12. The FAA has not changed this AD in this regard.

Request To Add Exception To Clarify Effectivity

Delta requested that the FAA add the following exception to paragraph (h) of the proposed AD: Where paragraph 1.A.1 of APB Service Bulletin AP757-57-012, Revision 1, dated October 17, 2024, states “with winglets or wing tips installed,” replace that text with “with winglets or wing tips installed or on which winglets have been installed and subsequently removed.” Delta stated that the effectivity of the service bulletin does not mention airplanes on which winglets were installed per Supplemental Type Certificate (STC) ST01518SE and subsequently removed per APB Service Bulletin AP757-57-001, Revision 1, dated May 18, 2012. Delta also stated it is unlikely that accomplishment of APB Service Bulletin AP757-57-001 would restore an airplane to a configuration where the unsafe condition of the proposed AD does not exist.

The FAA agrees that the unsafe condition of this AD could exist on airplanes modified per STC ST01518SE where winglets were never installed, or winglets were installed and subsequently removed. However, the FAA disagrees that an exception is needed to address airplanes that had winglets installed per STC ST01518SE and subsequently removed. The FAA clarifies that where the effectivity of APB Service Bulletin AP757-57-012, Revision 1, dated October 17, 2024, specifies “or wing tips installed,” that wording includes airplanes that were modified per STC ST01518SE and either the winglets were never installed, or winglets were installed and subsequently removed. The FAA has not revised the AD in this regard.

Request To Correct Typographical Error

Delta requested that the FAA revise paragraph (h)(5) of the proposed AD to “or within 22 months” to correct a typographical error.

The FAA agrees and has revised paragraph (h)(5) of this AD accordingly.

Request To Reference Tables for Existing Freeze Plug Repairs

Delta requested that the FAA add an exception to paragraph (h) of the proposed AD to point to the appropriate tables for accomplishing the repetitive surface HFEC inspections for airplanes with a freeze plug repair done in accordance with APB Service Bulletin AP757-57-012, Revision 1, dated October 17, 2024. Delta stated that, if a freeze plug repair is accomplished (per condition 4.2, action 1), then condition 4.2, action 2 of tables 3, 6, 10, and 13 of paragraph 1.E., “Compliance,” and tables 3 and 6 of paragraph 3.B., “Work Instructions,” in the service bulletin specify accomplishing repetitive surface HFEC inspections, but those tables are applicable to inspection areas with no existing freeze plug repair. Delta asserted that condition 4.2, action 2 of tables 3, 6, 10, and 13 in paragraph 1.E. of the service bulletin should specify accomplishing the repetitive inspections per tables 2, 5, 9, and 12 of paragraph 1.E because there is now a freeze plug. Similarly, Delta asserted that condition 4.2, action 2 of tables 3 and 6 in paragraph 3.B. of the service bulletin should specify accomplishing the repetitive inspections per tables 2 and 5 of paragraph 3.B.

The FAA agrees that freeze plug repairs accomplished in accordance with APB Service Bulletin AP757-57-012, Revision 1, dated October 17, 2024, should be considered as existing freeze plug repairs for repetitive surface HFEC inspections on a per stringer, per wing basis. However, no change is necessary to this AD because the FAA included exceptions in the proposed AD that address Delta's request. Those exceptions are in paragraphs (h)(7) and (8) of this AD, which specify to use figures 3 and 8, respectively, to accomplish the repetitive surface HFEC inspections for condition 4.2, action 2 in tables 3 and 6, respectively, of the Accomplishment Instructions of the service bulletin. The FAA notes that tables 2 and 5 of paragraph 3.B also refer to figures 3 and 8, respectively, for the repetitive surface HFEC inspections. In addition, the FAA has determined that tables 3, 6, 10, and 13 of paragraph 1.E. do not need to be revised because those tables provide compliance times for accomplishing the repetitive surface HFEC inspections, not the instructions for accomplishing the repetitive inspections.

Request To Provide Instructions for Inspections of Areas With a Freeze Plug Repair

Delta requested that the FAA add an exception to paragraph (h) of the proposed AD to provide instructions on how to comply with the surface HFEC inspections specified in APB Service Bulletin AP757-57-012, Revision 1, dated October 17, 2024, for areas that have a freeze plug repair. Delta also stated that the HFEC inspection areas shown in figure 3 of the service bulletin could be concealed by freeze plug repairs in the inspection area, which makes the surface HFEC inspection not possible as written in the service bulletin. Delta noted there are no instructions for removal of the fastener and retainer washer in areas with a freeze plug installed and referred to an email from APB that clarified such instructions.

The FAA agrees to clarify the instructions for accomplishing a surface HFEC inspection in an area with a freeze plug repair. The freeze plug retainer washer does not need to be removed. It is acceptable to perform the surface HFEC inspection around the circumference of the retainer washer. Accordingly, the FAA has added a new exception to paragraph (h)(9) of this AD to require the surface HFEC inspection of the applicable lower stringer vertical web flange around each fastener, including any washers or freeze plug retainer washers (washer removal is not required) for any crack.

Request To Clarify Sealant Requirements

Delta requested that the FAA add an exception to paragraph (h) of the proposed AD to clarify that figures 3 and 8 of APB Service Bulletin AP757-57-012, Revision 1, dated October 17, 2024, require applying Boeing Material Specification (BMS) 5-45 or BMS 5-168 sealant. Delta stated that step 4 of those figures list BMS 5-45 and BMS 5-168 in separate substeps, which could be misinterpreted to mean that both sealants need to be applied.

The FAA agrees that only one sealant must be applied under step 4 of figures 3 and 8 of the service bulletin. The FAA has added a new exception in paragraph (h)(10) of this AD accordingly.

Request To Clarify Retainer Washer Requirements

Delta requested that the FAA add an exception to paragraph (h) of the proposed AD to clarify the requirement for the retainer washer in flag note (e) of figures 6 and 11 of APB Service Bulletin AP757-57-012, Revision 1, dated October 17, 2024. Delta stated the flag note specifies that the retainer washer must have a 0.15-0.20-inch overlap with the freeze plug, which can be interpreted as the washer needs to overlap the freeze plug as opposed to overlapping the surrounding structure. Delta asserted that the wording in the service bulletin does not appear to provide a requirement for the outer diameter of the retainer washer. Delta requested that the requirement instead state that the retainer washer must be fabricated with a 0.15-0.20-inch diameter greater than a freeze plug.

The FAA agrees to clarify the requirement for retainer washer fabrication of in flag note (e) of figures 6 and 11 in the service bulletin. The FAA has added a new exception in paragraph (h)(12) to clarify the retainer washer must have a 0.15-0.20-inch radius greater than the freeze plug.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Aviation Partners Boeing Service Bulletin AP757-57-012 Revision 1, dated October 17, 2024. This material specifies procedures for performing a GVI or maintenance records check of the lower stringer L-6 and lower stringer L-8 vertical web flange, between WS 397.50 and WS 403 for an approved freeze plug repair; a surface HFEC inspection for cracking of the wing lower stringer L-6 and lower stringer L-8 vertical web flange, common to the reinforcement strap attach fasteners located between WS 397.50 and WS 403.00; and applicable on-condition actions. The on-condition actions include repetitive surface HFEC inspections for cracking, crack length measurement, a surface HFEC inspection of the lower stringer L-6 or L-8 vertical web flange around each of the four fasteners for cracks, crack removal, freeze plug repair, and crack repair.

This material is reasonably available because the interested parties have access to it through their normal course of business or by the means identified in the ADDRESSES section.

Costs of Compliance

The FAA estimates that this AD affects 156 airplanes of U.S. registry. The FAA estimates the following costs to comply with this AD:

Estimated Costs
Action | Labor cost | Parts cost | Cost per product | Cost on U.S. operators
Left- and Right-wing GVI and HFEC Inspection | 7 work-hours × $85 per hour = $595 | $0 | Up to $595 | Up to $92,820.

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2026-01-05 The Boeing Company: Amendment 39-23233; Docket No. FAA-2025-0744; Project Identifier AD-2024-00586-T.

(a) Effective Date

This airworthiness directive (AD) is effective February 20, 2026.

(b) Affected ADs

None.

(c) Applicability

This AD applies to The Boeing Company Model 757-200 and -300 series airplanes, certificated in any category, as specified in paragraph 1.A.1 of Aviation Partners Boeing Service Bulletin AP757-57-012, Revision 1, dated October 17, 2024.

(d) Subject

Air Transport Association (ATA) of America Code 57, Wings.

(e) Unsafe Condition

This AD was prompted by an operator reporting a crack on a Model 757-200 airplane equipped with Aviation Partners Boeing scimitar blended winglets. The FAA is issuing this AD to address the potential for cracking on the right- or left-wing lower stringer L-8 or L-6 vertical web flange at a fastener common to the reinforcement strap. The unsafe condition, if not addressed, could result in the inability of a principal structural element to sustain limit loads, which could adversely affect the structural integrity of the airplane.

(f) Compliance

Comply with this AD within the compliance times specified, unless already done.

(g) Required Actions

Except as specified in paragraphs (h) and (i) of this AD: At the applicable times specified in paragraph 1.E., “Compliance,” of Aviation Partners Boeing Service Bulletin AP757-57-012, Revision 1, dated October 17, 2024, do all applicable actions identified as “RC” (required for compliance) in, and in accordance with, the Accomplishment Instructions of Aviation Partners Boeing Service Bulletin AP757-57-012, Revision 1, dated October 17, 2024.

(h) Exceptions to Service Bulletin Specifications

(1) Where the Compliance Time columns of the tables in “Compliance” paragraph of Aviation Partners Boeing Service Bulletin AP757-57-012, Revision 1, dated October 17, 2024, refer to the original issue date of this Service Bulletin, this AD requires using the effective date of this AD.

(2) Where Table 2 and Table 3 of the “Compliance” paragraph of Aviation Partners Boeing Service Bulletin AP757-57-012, Revision 1, dated October 17, 2024, specify Action 1 without a compliance time, for this AD, the compliance time is before 9,500 flight cycles after the blended winglet installation, within 3,000 flight cycles after the effective date of this AD, or within 24 months after the effective date of this AD, whichever occurs later.

(3) Where Table 5 and Table 6 of the “Compliance” paragraph of Aviation Partners Boeing Service Bulletin AP757-57-012, Revision 1, dated October 17, 2024, specify Action 1 without a compliance time, for this AD, the compliance time is before 8,000 flight cycles after the blended winglet installation, within 3,000 flight cycles after the effective date of this AD, or within 24 months after the effective date of this AD, whichever occurs later.

(4) Where Table 9 and Table 10 of the “Compliance” paragraph of Aviation Partners Boeing Service Bulletin AP757-57-012, Revision 1, dated October 17, 2024, specify Action 1 without a compliance time, for this AD, the compliance time is before 9,500 flight cycles after the blended winglet installation, within 3,000 flight cycles after the effective date of this AD, or within 22 months after the effective date of this AD, whichever occurs later.

(5) Where Table 12 and Table 13 of the “Compliance” paragraph of Aviation Partners Boeing Service Bulletin AP757-57-012, Revision 1, dated October 17, 2024, specify Action 1 without a compliance time, for this AD, the compliance time is before 8,000 flight cycles after the blended winglet installation, within 3,000 flight cycles after the effective date of this AD, or within 22 months after the effective date of this AD, whichever occurs later.

(6) Where Condition 2 of Table 6 in the Accomplishment Instructions of Aviation Partners Boeing Service Bulletin AP757-57-012, Revision 1, dated October 17, 2024, includes “remove crack” as part of the actions, the action “remove crack” is not required by this AD for Condition 2 of Table 6.

(7) Where Action 2 of Condition 4.2 in Table 3 of the Accomplishment Instructions of Aviation Partners Boeing Service Bulletin AP757-57-012, Revision 1, dated October 17, 2024, does not include a method of compliance for the inspection, for this AD, the method of compliance is Figure 3 of the Accomplishment Instructions of Aviation Partners Boeing Service Bulletin AP757-57-012, Revision 1, dated October 17, 2024.

(8) Where Action 2 of Condition 4.2 in Table 6 of the Accomplishment Instructions of Aviation Partners Boeing Service Bulletin AP757-57-012, Revision 1, dated October 17, 2024, does not include a method of compliance for the inspection, for this AD, the method of compliance is Figure 8 of the Accomplishment Instructions of Aviation Partners Boeing Service Bulletin AP757-57-012, Revision 1, dated October 17, 2024.

(9) Where flag notes (b) and (c) of Figure 3 and Figure 8 of the Accomplishment Instructions of Aviation Partners Boeing Service Bulletin AP757-57-012, Revision 1, dated October 17, 2024, specify doing a surface high frequency eddy current (HFEC) inspection of the applicable lower stringer vertical web flange “around each of the four fasteners for any crack”, this AD requires replacing that text with “around each fastener, including any washers or freeze plug retainer washers (washer removal is not required) for any crack”.

(10) Where Step 4 of Figure 3 and Figure 8 of the Accomplishment Instructions of Aviation Partners Boeing Service Bulletin AP757-57-012, Revision 1, dated October 17, 2024, specifies applying both BMS 5-45 and BMS 5-168 sealants, this AD requires application of either BMS 5-45 or BMS 5-168 sealant.

(11) Where flag note (b) of Figure 5 and Figure 10 of the Accomplishment Instructions of Aviation Partners Boeing Service Bulletin AP757-57-012, Revision 1, dated October 17, 2024, specifies “Maximum hole diameter 0.80 inch”, this AD requires replacing that text with “Maximum hole diameter 0.80 inch. Do an open-hole HFEC inspection of the hole in the stringer in accordance with 757 NDT Manual Part 6, 51-00-04, 51-00-11, or 51-00-16”.

(12) Where flag note (e) of Figure 6 and Figure 11 of the Accomplishment Instructions of Aviation Partners Boeing Service Bulletin AP757-57-012, Revision 1, dated October 17, 2024, specifies “The retainer washer must have 0.15-0.20 inch overlap with the freeze plug”, this AD requires replacing that text with “The retainer washer must have a 0.15-0.20-inch radius greater than the freeze plug”.

(13) Where Aviation Partners Boeing Service Bulletin AP757-57-012, Revision 1, dated October 17, 2024, specifies contacting Aviation Partners Boeing for repair instructions: This AD requires repair using a method approved in accordance with the procedures specified in paragraph (j) of this AD.

(i) No Reporting Requirement

Although Aviation Partners Boeing Service Bulletin AP757-57-012, Revision 1, dated October 17, 2024, specifies to report existing repairs, this AD does not require any report.

(j) Alternative Methods of Compliance (AMOCs)

(1) The Manager, West Certification Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (k) of this AD. Information may be emailed to: AMOC@faa.gov. Before using any approved AMOC, notify your appropriate principal inspector, or lacking a principal inspector, the manager of the responsible Flight Standards Office.

(2) Except as specified by paragraph (g) of this AD: For material that contains steps that are labeled as Required for Compliance (RC), the provisions of paragraphs (j)(2)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(k) Additional Information

For more information about this AD, contact Sarah Illg, Aviation Safety Engineer, FAA, 3960 Paramount Boulevard, Lakewood, CA 90712; phone: 206-231-3517; email: Sarah.A.Illg@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) Aviation Partners Boeing Service Bulletin AP757-57-012, Revision 1, dated October 17, 2024.

(ii) [Reserved]

(3) For Aviation Partners Boeing material identified in this AD, contact Aviation Partners Boeing, 2811 South 102nd St., Suite 200, Seattle, WA 98168; phone 206-830-7699; email leng@aviationpartners.com; website aviationpartnersboeing.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on January 12, 2026.
Steven W. Thompson,
Acting Deputy Director, Compliance & Airworthiness Division, Aircraft Certification Service.

[FR Doc. 2026-00838 Filed 1-15-26; 8:45 am]

BILLING CODE 4910-13-P